OFFICE OF PERSONNEL MANAGEMENT

5 CFR Part 894

RIN 3206-AM57

Federal Employees Dental and Vision Insurance Program; Qualifying Life Event Amendments

AGENCY: U.S. Office of Personnel Management.

ACTION: Final rule.

SUMMARY: The U.S. Office of Personnel Management issued a Notice of Proposed Rulemaking on December 23, 2013, to amend conditions under which Federal employees and retirees may change enrollment under the Federal Employees Dental and Vision Insurance Program. This is the final rule.

DATES: This rule is effective August 15, 2014.

FOR FURTHER INFORMATION CONTACT: Michael W. Kaszynski, Senior Policy Analyst at mwkaszyn@opm.gov or (202) 606-0004.

SUPPLEMENTARY INFORMATION: The U.S. Office of Personnel Management (OPM) issued a Notice of Proposed Rulemaking to change some of the requirements for Federal employees and retirees to make enrollment changes under the Federal Employees Dental and Vision Insurance Program (FEDVIP). These expanded enrollment opportunities are intended to better align FEDVIP with specific Federal Employees Health Benefits (FEHB) qualifying life events (QLE). We received no comments on the regulation. The new enrollment opportunities will allow FEDVIP enrollees to make enrollment changes when they get married or return to work after certain periods of leave without pay. FEDVIP enrollees will now be able to enroll or change plans or options when they experience these life events. Previously, enrollees had to wait until the annual Open Season event to make these changes. This better aligns these enrollment opportunities under both the FEDVIP and the FEHB Programs.

The Federal Employee Dental and Vision Benefits Enhancement Act of 2004 provided OPM the opportunity to establish arrangements under which supplemental dental and vision benefits were made available to Federal employees, retirees, and their family members.

FEDVIP is available to eligible Federal and Postal employees, retirees, and their eligible family members on an enrollee-pay-all basis. This program allows dental and vision insurance to be purchased on a group basis with competitive premiums and no pre-existing condition limitations for enrollment. Premiums for enrolled Federal and Postal employees are withheld from salary on a pre-tax basis.

Regulatory Impact Analysis

OPM has examined the impact of this proposed rule as required by Executive Order 12866 and Executive Order 13563, which directs agencies to assess all costs and benefits of available regulatory alternatives and, if regulation is necessary, to select regulatory approaches that maximize net benefits (including potential economic, environmental, public, health, and safety effects, distributive impacts, and equity). A regulatory impact analysis must be prepared for major rules with economically significant effects of $100 million or more in any one year. This rule is not considered a major rule because there will be a minimal impact on costs to Federal agencies.

Regulatory Flexibility Act

I certify that this regulation will not have a significant economic impact on a substantial number of small entities because the regulation only adds flexibility to the current enrollment process.

Executive Order 12866, Regulatory Review

This rule has been reviewed by the Office of Management and Budget in accordance with Executive Order 12866.

Federalism

We have examined this rule in accordance with Executive Order 13132, Federalism, and have determined that this rule will not have any negative impact on the rights, roles and responsibilities of State, local, or tribal governments.

List of Subjects in 5 CFR Part 894

Administrative practice and procedure, Employee benefit plans, Government employees, Reporting and recordkeeping requirements, Retirement.

U.S. Office of Personnel Management.
Katherine Archuleta,
Director.

Accordingly, OPM amends 5 CFR Part 894 as follows:

PART 894—FEDERAL EMPLOYEES DENTAL AND VISION INSURANCE PROGRAM

1. The authority citation for part 894 continues to read as follows:

Authority: 5 U.S.C. 8962; 5 U.S.C. 8992; Subpart C also issued under section 1 of Pub. L. 110-279, 122 Stat. 2604.

Subpart E—Enrollment and Changing Enrollment

2. In § 894.501, revise paragraphs (c) and (d) and add new paragraphs (e) and (f) to read as follows:

§ 894.501 When may I enroll?

* * * * *

(c) Within 60 days of when you return to service following a break in service of at least 30 days;

(d) From 31 days before you or an eligible family member loses other dental/vision coverage to 60 days after a QLE that allows you to enroll;

(e) From 31 days before you get married to 60 days after; or

(f) Within 60 days after returning to Federal employment after being on leave without pay if you did not have Federal dental or vision coverage prior to going on leave without pay, or your coverage was terminated or canceled during your period of leave without pay.

3. In § 894.502, revise paragraphs (b) and (c) and add new paragraphs (d) and (e) to read as follows:

§ 894.502 What are the Qualifying Life Events (QLEs) that allow me to enroll?

* * * * *

(b) Your annuity or compensation is restored after having been terminated;

(c) You return to pay status after being on leave without pay due to deployment to active military duty;

(d) You get married; or

(e) You return to Federal employment after being on leave without pay if you did not have Federal dental or vision coverage prior to going on leave without pay, or your coverage was terminated or canceled during your period of leave without pay.

4. In § 894.507, revise paragraph (a) to read as follows:

§ 894.507 After I'm enrolled, may I change from one dental or vision plan or plan option to another?

(a) You may change from one dental and/or vision plan to another plan or one plan option to another option in that same plan during the annual open season, when you get married, or when you return to Federal employment after being on leave without pay if you did not have Federal dental or vision coverage prior to going on leave without pay, or your coverage was terminated or canceled during your period of leave without pay.

* * * * *

5. In § 894.508, revise paragraph (e) to read as follows:

§ 894.508 When may I increase my type of enrollment?

* * * * *

(e) You may not change from one dental or vision plan to another, except as stated in § 894.507.

[FR Doc. 2014-16660 Filed 7-15-14; 8:45 am]

BILLING CODE 6325-43-P